DEPARTMENT OF HEALTH AND HUMAN SERVICES

Administration for Community Living

Agency Information Collection Activities; Proposed Collection; Public Comment Request; Traumatic Brain Injury (TBI) State Partnership Program, OMB approval number 0985-NEW

AGENCY: Administration for Community Living, HHS.

ACTION: Notice.

SUMMARY: The Administration for Community Living (ACL) is announcing an opportunity for the public to review substantive changes to the proposed collection of information listed above. Under the Paperwork Reduction Act of 1995 (PRA), Federal agencies are required to publish a notice in the Federal Register concerning each proposed collection of information, including each proposed extension of an existing collection of information.

DATES: Comments on the collection of information must be submitted electronically by 11:59 p.m. (EST) or postmarked by October 22, 2019.

ADDRESSES: Submit electronic comments on the information collection request to: Dana Fink at dana.fink@acl.hhs.gov. Submit written comments on the collection of information to Administration for Community Living, Washington, DC 20201, Attention: Dana Fink.

FOR FURTHER INFORMATION CONTACT: Dana Fink, Administration for Community Living, Washington, DC 20201, (202) 795-7604, or dana.fink@acl.hhs.gov.

SUPPLEMENTARY INFORMATION: Under the PRA, Federal agencies must obtain approval from the Office of Management and Budget (OMB) for each collection of information they conduct or sponsor and includes agency requests or requirements that members of the public submit reports, keep records, or provide information to a third party. The PRA requires Federal agencies to provide notice in the Federal Register concerning each proposed collection of information, including each proposed new collection of information, before submitting the collection to OMB for approval. To comply with this requirement, ACL is publishing a notice of the proposed collection of information set forth in this document.

With respect to the following Information Collection (IC), ACL published a 60-day Federal Register Notice from 11/13/2017-01/12/2018 (Vol. 82, No.217 pp. 52305-52306). ACL received a large volume of substantive stakeholder comments, causing revisions to the IC based on those public comments. The period in publication between the 60-day FRN and 30-day FRN, allowed ACL to thoughtfully review and apply the significant number of substantive public comments to the proposed new TBI IC.

In order to remain compliant with PRA 5 CFR 1320.8(d), ACL has published this Federal Register Notice for an abbreviated public comment period prior to publishing a 30-day FRN and submittal to OMB. ACL solicits comments during this abbreviated public comment period regarding: (1) The accuracy of ACL's revised estimate of the burden for the proposed collection of information performance reporting data elements and (2) whether the proposed revisions to the collection of information enhance the quality, utility, and clarity of the information to be collected.

The goal of the federal Traumatic Brain Injury (TBI) State Partnership Program is to help state and local agencies develop resources so all individuals with TBI and their families will have accessible, available, and appropriate services and supports. The TBI State Partnership Program funds the development and implementation of statewide systems that ensure access to TBI related services, including transitional services, rehabilitation, education and employment, and long-term community support. To best monitor, guide, and support TBI State Partnership Program grantees, ACL needs regular information about the grantees' activities and outcomes. The simplest, least burdensome and most useful way to accomplish this goal is to require grantees to submit information as part of their required semiannual reports via the proposed electronic data submission instrument.

In 1996, the Public Health Service Act was amended “to provide for the conduct of expanded studies and the establishment of innovative programs with respect to traumatic brain injury, and for other purposes” (Pub. L. 104-166).

The Health Resources and Services Administration (HRSA), was authorized to “make grants to States for the purpose of carrying out demonstration projects to improve access to health and other services regarding traumatic brain injury.” The Children's Health Act of 2000 (Pub. L. 106-310) authorized HRSA to “develop, change, or enhance community-based service delivery systems that include timely access to comprehensive appropriate services and supports.” The Traumatic Brain Injury Act of 2008 (Pub. L. 110-206) provided for the expansion and improvement of traumatic brain injury programs, including funding for HRSA's State Grants for Demonstration Projects Regarding Traumatic Brain Injury. These state grants were reauthorized by the Traumatic Brain Injury Reauthorization Act of 2014 (Pub. L. 113-196) and again by the Traumatic Brain Injury Reauthorization Act of 2018 (Pub. L. 115-377).

While conducting a review of all previous statewide TBI needs and resources assessments, the HRSA determined that four common barriers to accessing care continued to emerge across states and territories. These barriers include: (1) A lack of information of services and supports with little or no assistance in accessing them (information and referral services); (2) a shortage of health professionals who may encounter individuals with TBI but lack relevant training to identify or treat the resulting symptoms, including physicians, nurses, school staff, coaches, athletic trainers, social workers, psychologists, childcare providers, domestic violence/homeless/emergency shelter staff, law enforcement, and assisted living facility personnel (professional training); (3) the absence of a TBI diagnosis, or the assignment of an incorrect diagnosis (screening); and (4) critical TBI services are spread across numerous agencies resulting in services being difficult for families to identify and navigate (resource facilitation).

The proposed performance measures assess progress toward surmounting the aforementioned barriers, while accounting for the varied approaches used across state grantees and are consistent with the TBI State Partnership Program's purpose and ACL's mission.

The proposed data collection tools may be found on the ACL website for review at https://www.acl.gov/about-acl/public-input.

Comments in Response to the 60-Day Federal Register Notice

Federal Register November 13, 2017 vol. 82, Number 217; pp. 52305-52306. For the complete extensive summary of comments and responses, please visit the ACL website for review. https://www.acl.gov/about-acl/public-input.

Summary of Comment Count

(1) Twenty-three (23) individuals provided written comments in response to the proposed new TBI Performance Measures instrument.

(2) Commenters provided feedback on specific reporting instrument questions as well as general suggestions and recommendations for ACL about what grantees should report.

(3) 268 separate comments were made about one or more specific survey questions.

(4) 102 separate comments asked for a definition, further guidance or clarification with regard to terminology used.

(5) 81 comments made a general recommendation, not specific to a particular question.

Estimated Program Burden

These revisions based on public comments caused a change in the annual reporting burden estimates; there is a program change decrease of −1,008 annual burden hours from the 60-day FRN. In addition, the 60-day FRN respondent estimate was based on the highest number of possible awards anticipated; there is an adjustment decrease of −18 respondents.

Adjusted number of respondents | Number of responses (per respondent) | Average burden hours (per response) | Total burden hours
27 | 2 | 8 | 432

60-day FRN number of respondents | Number of responses (per respondent) | Average burden hours (per response) | Total burden hours
45 | 2 | 16 | 1,440

Dated: September 23, 2019.
Mary Lazare,
Principal Deputy Administrator.

[FR Doc. 2019-21906 Filed 10-7-19; 8:45 am]

BILLING CODE 4154-01-P